FEDERAL MEDIATION AND CONCILIATION SERVICE

[Docket No.: FMCS-2021-2]

Availability of Draft Strategic Plan and Request for Public Comment

AGENCY: Federal Mediation and Conciliation Service (FMCS).

ACTION: Notice of availability of Draft Strategic Plan; request for comments.

SUMMARY: The Federal Mediation and Conciliation Service (FMCS) announces the availability of its draft Strategic Plan for 2022-2026. The Government Performance and Results Act of 1993, as amended by the GPRA Modernization Act of 2010, requires that Federal Agencies solicit input from interested stakeholders when developing their Strategic Plans. Therefore, FMCS invites the general public and other Federal Agencies to take this opportunity to comment on FMCS's draft Strategic Plan.

DATES: Comments must be submitted on or before August 16, 2021.

ADDRESSES: You may send comments, identified by FMCS-2021-2, by any of the following methods:

• Mail: Office of Budget, FMCS, Floor 7, One Independence Square, 250 E Street SW, Washington, DC 20427.

• Email: WShields@fmcs.gov. Include FMCS-2021-2 on the subject line of the message.

Please note that at this time, the FMCS office is not open for visitors and mail is not checked daily. Therefore, we encourage emailed comments.

FOR FURTHER INFORMATION CONTACT: Will Shields, 202-606-3635, WShields@fmcs.gov.

SUPPLEMENTARY INFORMATION: FMCS's mission is to:

• Promote the development of sound and stable labor management relationships;

• Prevent or minimize work stoppages by assisting labor and management to settle their disputes through mediation;

• Advocate collective bargaining, mediation and voluntary arbitration as the preferred processes for settling issues between employers and representatives of employees;

• Develop and advocate the art, science and practice of conflict resolution through the use of ADR;

• Assist parties in conflict through the provision of conflict resolution services; and

• Foster the establishment and maintenance of constructive joint processes to improve labor-management relationships, employment security and organizational effectiveness.

The draft Strategic Plan sets out how FMCS will pursue its strategic goals and is available at https://www.fmcs.gov/wp-content/uploads/2021/07/2022-2026-FMCS-Strategic-Plan-v02.pdf. FMCS anticipates publishing its 2022-2026 Strategic Plan in February 2022 and making it available on the FMCS website, www.fmcs.gov, at that time.

Dated: July 9, 2021.
William H. Shields,
Budget Director.

[FR Doc. 2021-15016 Filed 7-14-21; 8:45 am]

BILLING CODE 6732-01-P